DEPARTMENT OF THE INTERIOR

National Park Service

[NPS-WASO-NAGPRA-NPS0039327; PPWOCRADN0-PCU00RP14.R50000]

Notice of Intended Disposition: U.S. Department of Agriculture, Forest Service, Chugach National Forest, Anchorage, AK

AGENCY: National Park Service, Interior.

ACTION: Notice.

SUMMARY: In accordance with the Native American Graves Protection and Repatriation Act (NAGPRA), the U.S. Department of Agriculture, Forest Service, Chugach National Forest intends to carry out the disposition of human remains removed from Federal or Tribal lands to the lineal descendants, Indian Tribe, or Native Hawaiian organization with priority for disposition in this notice.

DATES: Disposition of the human remains in this notice may occur on or after February 18, 2025. If no claim for disposition is received by January 16, 2026, the human remains in this notice will become unclaimed human remains.

ADDRESSES: Jeff E. Schramm, Forest Supervisor, Chugach National Forest, Supervisor's Office, 161 E 1st Ave., Door 8, Anchorage, AK 99501, telephone (907) 743-9500, email jeff.schramm@usda.gov.

SUPPLEMENTARY INFORMATION: This notice is published as part of the National Park Service's administrative responsibilities under NAGPRA. The determinations in this notice are the sole responsibility of the Chugach National Forest, and additional information on the human remains in this notice, including the results of consultation, can be found in the related records. The National Park Service is not responsible for the identifications in this notice.

Abstract of Information Available

Based on the information available, human remains representing, at least, one individual have been reasonably identified.

In 1992, human remains were recovered near the Eagle Glacier Nordic Training Center cabin, within the Municipality of Anchorage, near Girdwood, AK by a private individual. The private individual was referred to the State of Alaska Office of History and Archaeology by the State Crime Laboratory. The remains were transferred to the Supervisor's Office of the Chugach National Forest in Anchorage, AK on October 12, 1995. The human remains are one small fragmentary mandible which is well-worn from exposure to the elements.

Determinations

The Chugach National Forest has determined that:

• The human remains described in this notice represent the physical remains of one individual of Native American ancestry.

• The Eklutna Native Village and the Knik Tribe have priority for disposition of the human remains described in this notice.

Claims for Disposition

Written claims for disposition of the human remains in this notice must be sent to the appropriate official identified in this notice under ADDRESSES. If no claim for disposition is received by January 16, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after February 18, 2025. If competing claims for disposition are received, the Chugach National Forest, must determine the most appropriate claimant prior to disposition. Requests for joint disposition of the human remains are considered a single request and not competing requests. The Chugach National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 6, 2025.
Melanie O'Brien,
Manager, National NAGPRA Program.

[FR Doc. 2025-01018 Filed 1-15-25; 8:45 am]

BILLING CODE 4312-52-P